DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socio-Economic Surveys of Vessel (SESV) Owners and Crew in New England and Mid-Atlantic Fisheries.

OMB Control Number: None.

Form Number(s): NA.

Type of Request: Regular submission (request for a new information collection).

Number of Respondents: 1,400.

Average Hours per Response: 30 minutes.

Burden Hours: 700.

Needs and Uses: The purpose of this survey is to provide for the ongoing collection of social and economic data related to fisheries and their communities in the Northeast and Mid-Atlantic states. These data are needed to support fishery performance measures recently developed by NOAA's Northeast Science Center's Social Science Branch (SSB) in Woods Hole, MA. The measures are: financial viability, distributional outcomes, stewardship, governance and well-being. Data to support some indicators for these measures are already routinely collected by National Marine Fisheries Service (NMFS). This survey will fill in the gaps, and allow the SBB to collect trend data needed for more thorough analysis of changes in the fisheries, including impacts from changes in regulations. The National Environmental Policy Act (NEPA) and the Magnuson-Stevens Fishery Conservation and Management Act (MSA), as amended, both contain requirements for considering the social and economic impacts of fishery management decisions. Currently, however, no data exist that allow for tracking the social impacts of fishery management policy and decisions over time in the Northeast and Mid-Atlantic states, and insufficient economic trend data are available. In implementing policies and management programs, and in meeting the social and economic impact assessment requirements of NEPA and MSA, there is a need to understand how such policies and programs will affect the social and economic characteristics of those involved in the commercial fishing industry. Under this survey, the SSB intends to collect socio-economic data from vessel owners, permit holders, hired captains, and crew involved in commercial fishing in New England and the Mid-Atlantic states. Data to be collected include information on crew, wage calculation systems, individual and community well-being, fishing practices, job satisfaction, job opportunities, and attitudes toward fisheries management. SSB intends to collect these data on an ongoing (e.g., annually or biennially) basis in order to track how socio-economic characteristics of fisheries are changing over time and to track the impact of fishery policies and management programs implemented in New England and the Mid-Atlantic.

NMFS is aware of a survey begun by the University of Rhode Island (URI) in 2009/2010 in New England under a grant from the Commercial Fisheries Research Foundation, that seeks Paperwork Reduction Act clearance for a follow-up in the Mid-Atlantic in summer 2011 under NOAA funding (Social Impacts of the Implementation of Catch Shares Programs in the Mid-Atlantic, OMB Control No. 0648-xxxx). The current request has learned from some elements of the URI and follow-on survey. However, this request (1) Is focused on fisheries management in general while the earlier study is focused solely on catch shares, (2) is an ongoing survey rather than a one-time effort, and (3) specifically targets performance indicators for which data are not currently being collected.

Affected Public: Business or other for-profit organizations, individuals or households.

Frequency: Annually.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: July 11, 2011.
Gwellnar Banks,
Management Analyst, Office of the Chief Information Officer.

[FR Doc. 2011-17700 Filed 7-13-11; 8:45 am]

BILLING CODE 3510-22-P